DEPARTMENT OF HEALTH AND HUMAN SERVICES

Centers for Disease Control and Prevention

[60Day-02-34]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Seleda Perryman, CDC Assistant Reports Clearance Officer, 1600 Clifton Road, MS-D24, Atlanta, GA 30333. Written comments should be received within 60 days of this notice.

Proposed Project: Ovarian Cancer Patterns of Care Study—New—National Center for Chronic Disease Prevention and Health Promotion (NCCDPHP), Centers for Disease Control and Prevention (CDC). Ovarian cancer is the second most common gynecologic cancer in the United States (U.S.), with 23,100 new cases and 14,000 deaths expected in 2001. Five-year relative survival is 95% for cases diagnosed at localized stage (25% of ovarian cancers), 79% for cases diagnosed with regional disease (9% of ovarian cancers), and 28% for those with distant disease at diagnosis (60% of ovarian cancers). Currently, screening tests that would detect ovarian cancer at an early stage and thus decrease mortality are not available.

Studies suggest that some ovarian cancer patients may not receive recommended treatment and staging. Limited information regarding recent, population-based estimates of the patterns of care for ovarian cancer treatment is available. While cancer registries generally collect information on treatment and stage of disease, detailed information is often not reported, and the accuracy of treatment and stage data collected is unknown.

The purpose of this project is to determine the type of treatment received by ovarian cancer patients, the medical specialty providing care, treatment outcome, staging procedures performed, and the accuracy of treatment and staging data in central cancer registries. A random sample of 1,500 cases per site diagnosed with first primary ovarian cancer is selected from three population-based central cancer registries (diagnosis years 1998-2000 in New York State and California, and 1997-2000 in Maryland). Because not all information may have been reported to the central cancer registries, this data will be collected from medical records of these cases for patient and tumor characteristics, treatment, and staging. Data collected will be sent to CDC investigators for analysis. The estimated annualized cost to respondents is $650,000.

Respondents | Number of respondents | Number of responses per respondent | Average burden of response (in hours) | Total burden (in hours)
Physicians (M.D., D.O.) | 2250 | 1 | 15/60 | 563
Total |  |  |  | 563

Dated: March 18, 2002.
Nancy Cheal,
Acting Associate Director for Policy, Planning and Evaluation, Centers for Disease Control and Prevention.

[FR Doc. 02-7276 Filed 3-26-02; 8:45 am]

BILLING CODE 4163-18-P